DEPARTMENT OF HEALTH AND HUMAN SERVICES

National Institutes of Health

National Institute of Child Health and Human Development; Amended Notice of Meeting

Notice is hereby given of a change in the meeting of the National Institute of Child Health and Human Development Special Emphasis Panel, January 5, 2007, 2 p.m. to January 5, 2007, 4 p.m. National Institutes of Health, 6100 Executive Boulevard, 5th Floor Conference Room, Rockville, MD 20852 which was published in the Federal Register on December 28, 2006, 71 FR 78215.

The meeting will be held on March 9, 2007. The meeting is closed to the public.

Dated: February 1, 2007.
Anna Snouffer,
Acting Director, Office of Federal Advisory Committee Policy.

[FR Doc. 07-562 Filed 2-7-07; 8:45 am]

BILLING CODE 4140-01-M